DEPARTMENT OF HEALTH AND HUMAN SERVICES

National Institutes of Health

Center for Scientific Review; Amended Notice of Meeting

Notice is hereby given of a change in the meeting of the Cellular and Molecular Biology of Neurodegeneration Study Section, October 28, 2021, 10:00 a.m. to October 29, 2021, 06:00 p.m., National Institutes of Health, Rockledge II, 6701 Rockledge Drive, Bethesda, MD 20892 which was published in the Federal Register on September 24, 2021, FR Doc 2021-20784 86 FR 53084.

This meeting is being amended to change the Contact Person from Christine Jean DiDonato to Laurent Taupenot, Ph.D., Center for Scientific Review, National Institutes of Health, 6701 Rockledge Drive, Bethesda, MD 20892 (301) 435-1203. The meeting is closed to the public.

Dated: October 19, 2021.
David W. Freeman,
Program Analyst, Office of Federal Advisory Committee Policy.

[FR Doc. 2021-23082 Filed 10-21-21; 8:45 am]

BILLING CODE 4140-01-P